DEPARTMENT OF ENERGY

Federal Energy Regulatory Commission

Combined Notice of Filings #1

Take notice that the Commission received the following electric rate filings:

Docket Numbers: ER10-2670-004; ER10-2669-004; ER10-2671-005; ER10-2673-004; ER10-2253-005; ER10-3319-006; ER10-2674-004; ER10-1543-004; ER10-1544-004; ER10-2627-005; ER10-2629-006; ER10-1546-006; ER10-1547-004; ER10-1549-004; ER10-2675-005; ER10-2676-004; ER10-2636-005; ER10-1975-006; ER10-1974-006; ER10-1550-005; ER11-2424-007; ER10-2677-004; ER10-1551-004; ER10-2678-003; ER10-2638-004.

Applicants: Hopewell Cogeneration Ltd Partnership, Troy Energy, LLC, FirstLight Hydro Generating Company, Astoria Energy LLC, Mt. Tom Generating Company, LLC, Pleasants Energy, LLC, Waterbury Generation LLC, Choctaw Gas Generation, LLC, Syracuse Energy Corporation, Astoria Energy II LLC, GDF SUEZ Energy Marketing NA, Inc., IPA Trading, LLC, Northeastern Power Company, Choctaw Generation Limited Partnership, Hot Spring Power Company, LLC, FirstLight Power Resources Management, LLC, Pinetree Power-Tamworth, Inc., ANP Blackstone Energy Company, LLC, ANP Bellingham Energy Company, LLC, North Jersey Energy Associates, A L.P., Milford Power Limited Partnership, Northeast Energy Associates, A Limited P, ANP Funding I, LLC, Armstrong Energy Limited Partnership, L., Calumet Energy Team, LLC.

Description: GDF SUEZ Companies submit Notice of Change in Status.

Filed Date: 2/10/12.

Accession Number: 20120210-5205.

Comments Due: 5 p.m. ET 3/2/12.

Docket Numbers: ER12-75-003.

Applicants: Public Power, LLC.

Description: Compliance Filing for MBR Tariff to be effective 10/13/2011.

Filed Date: 2/10/12.

Accession Number: 20120210-5138.

Comments Due: 5 p.m. ET 3/2/12.

Docket Numbers: ER12-743-001.

Applicants: Black Hills Power, Inc.

Description: GDEMA Revised Schedule B to be effective 1/1/2012.

Filed Date: 2/10/12.

Accession Number: 20120210-5177.

Comments Due: 5 p.m. ET 3/2/12.

Docket Numbers: ER12-748-001.

Applicants: Black Hills Power, Inc.

Description: GDEMA Revised Schedule B to be effective 1/1/2012.

Filed Date: 2/10/12.

Accession Number: 20120210-5178.

Comments Due: 5 p.m. ET 3/2/12.

Docket Numbers: ER12-750-001.

Applicants: Black Hills Power, Inc.

Description: GDEMA Revised Schedule B to be effective 1/1/2012.

Filed Date: 2/10/12.

Accession Number: 20120210-5179.

Comments Due: 5 p.m. ET 3/2/12.

Docket Numbers: ER12-751-001.

Applicants: Black Hills Power, Inc.

Description: GDEMA Revised Schedule B to be effective 1/1/2012.

Filed Date: 2/10/12.

Accession Number: 20120210-5180.

Comments Due: 5 p.m. ET 3/2/12.

Docket Numbers: ER12-952-001.

Applicants: Essential Power, LLC.

Description: Supplement to Market-Based Rate Application to be effective 4/1/2012.

Filed Date: 2/10/12.

Accession Number: 20120210-5117.

Comments Due: 5 p.m. ET 3/2/12.

Docket Numbers: ER12-1052-000.

Applicants: PJM Interconnection, L.L.C.

Description: PJM Interconnection, L.L.C. submits tariff filing per 35.13(a)(2)(iii: PJM Original Service Agreement No. 3185; Queue No. W4-046 to be effective 1/16/2012.

Filed Date: 2/10/12.

Accession Number: 20120210-5067.

Comments Due: 5 p.m. ET 3/2/12.

Docket Numbers: ER12-1053-000.

Applicants: Public Service Company of Colorado.

Description: Public Service Company of Colorado submits tariff filing per 35.13(a)(2)(iii: 2012-2-10_CGTRX E&P Agreement 293 NOC to be effective 4/10/2012.

Filed Date: 2/10/12.

Accession Number: 20120210-5093.

Comments Due: 5 p.m. ET 3/2/12.

Docket Numbers: ER12-1054-000.

Applicants: Southwestern Public Service Company.

Description: Southwestern Public Service Company submits tariff filing per 35.15: 2-10-12_RS102 SPS-PNM_Srvc Schedule C Cancel to be effective 5/31/2011.

Filed Date: 2/10/12.

Accession Number: 20120210-5098.

Comments Due: 5 p.m. ET 3/2/12.

Docket Numbers: ER12-1055-000.

Applicants: PJM Interconnection, L.L.C., American Transmission Systems, Incorporation.

Description: ATSI submits PJM Service Agreement No. 3235 ATSI-Buckeye-CEC South Scioto Cons. Agreement to be effective 10/28/2011.

Filed Date: 2/10/12.

Accession Number: 20120210-5118.

Comments Due: 5 p.m. ET 3/2/12.

Docket Numbers: ER12-1056-000.

Applicants: Southern California Edison Company.

Description: Amended Letter Agreement WDT SCE-Houweling Nurseries Oxnard Proj. with HNO to be effective 1/12/2012.

Filed Date: 2/10/12.

Accession Number: 20120210-5131.

Comments Due: 5 p.m. ET 3/2/12.

Docket Numbers: ER12-1057-000.

Applicants: Falcon Energy, LLC.

Description: Falcon Energy MBR Tariff to be effective 2/1/2012.

Filed Date: 2/10/12.

Accession Number: 20120210-5132.

Comments Due: 5 p.m. ET 3/2/12.

Docket Numbers: ER12-1058-000.

Applicants: Oklahoma Gas and Electric Company.

Description: Ministerial Filing to Incorporate Changes to eTariff Approved in ER11-112 to be effective 1/1/2011.

Filed Date: 2/10/12.

Accession Number: 20120210-5147.

Comments Due: 5 p.m. ET 3/2/12.

Docket Numbers: ER12-1059-000.

Applicants: Choctaw Gas Generation, LLC.

Description: Choctaw Gas Cancellation of MBR Tariff to be effective 2/10/2012.

Filed Date: 2/10/12.

Accession Number: 20120210-5153.

Comments Due: 5 p.m. ET 3/2/12.

Docket Numbers: ER12-1060-000.

Applicants: Coolidge Power LLC, Quantum Choctaw Power, LLC.

Description: Compliance Filing to be effective 2/10/2012.

Filed Date: 2/10/12.

Accession Number: 20120210-5154.

Comments Due: 5 p.m. ET 3/2/12.

Docket Numbers: ER12-1061-000.

Applicants: Public Service Company of New Mexico.

Description: PNM Certificate of Concurrence to be effective 12/15/2011.

Filed Date: 2/10/12.

Accession Number: 20120210-5155.

Comments Due: 5 p.m. ET 3/2/12.

Docket Numbers: ER12-1062-000.

Applicants: Entergy Arkansas, Inc.

Description: GenOn LGIA to be effective 2/11/2012.

Filed Date: 2/10/12.

Accession Number: 20120210-5168.

Comments Due: 5 p.m. ET 3/2/12.

Docket Numbers: ER12-1063-000.

Applicants: Black River Commodity Energy Fund LLC.

Description: MBR Tariff Baseline to be effective 5/15/2006.

Filed Date: 2/13/12.

Accession Number: 20120213-5000.

Comments Due: 5 p.m. ET 3/5/12.

Docket Numbers: ER12-1064-000.

Applicants: Black River Macro Discretionary Fund Ltd.

Description: MBR Tariff Baseline to be effective 5/15/2006.

Filed Date: 2/13/12.

Accession Number: 20120213-5001.

Comments Due: 5 p.m. ET 3/5/12.

Docket Numbers: ER12-1065-000.

Applicants: New England Power Company.

Description: New England Power Company submits Notice of Termination of Large Generator Interconnection Agreement.

Filed Date: 2/10/12.

Accession Number: 20120210-5189.

Comments Due: 5 p.m. ET 3/2/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2012.
Nathaniel J. Davis, Sr.,
Deputy Secretary.

[FR Doc. 2012-3881 Filed 2-17-12; 8:45 am]

BILLING CODE 6717-01-P